DEPARTMENT OF VETERANS AFFAIRS

[OMB Control No. 2900-0742]

Proposed Information Collection (Survey of Chronic Gastrointestinal Illness in Persian Gulf Veterans (Irritable Bowel Syndrome—Diarrhea)) Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments on information needed to evaluate chronic gastrointestinal disorders in Persian Gulf War Veterans.

DATES: Written comments and recommendations on the proposed collection of information should be received on or before December 21, 2012.

ADDRESSES: Submit written comments on the collection of information through the Federal Docket Management System (FDMS) at www.Regulations.gov; or to Cynthia Harvey Pryor, Veterans Health Administration (10P7BFP), Department of Veterans Affairs, 810 Vermont Avenue NW., Washington, DC 20420 or email: cynthia.harvey-pryor@va.gov. Please refer to “2900-0742” in any correspondence. During the comment period, comments may be viewed online through FDMS.

FOR FURTHER INFORMATION CONTACT: Cynthia Harvey-Pryor (202) 461-5870 or FAX (202) 273-9387.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

a. VA Research Consent Form (Cases), VA Form 10-2109a.

b. VA Research Consent Form (Control), VA Form 10-2109b.

c. Survey of Chronic Gastrointestinal Illness in Persian Gulf Veterans, VA Form 10-21092c.

OMB Control Number: 2900-0742.

Type of Review: Extension of a currently approved collection.

Abstract: Approximately 25 percent military troops who were deployed in the first Persian Gulf War returned with persistent gastrointestinal symptoms, typical of diarrhea-predominant irritable bowel syndrome. The data collected from the survey will assist VA in determining whether chronic gastrointestinal illness in Persian Gulf Veterans was caused by the presence of bacteria in the intestines and whether eradication of these bacteria reduces symptoms of chronic diarrhea.

Affected Public: Individuals or households.

Estimated Total Annual Burden

a. VA Research Consent Form (Cases), VA Form 10-2109a—41 hours.

b. VA Research Consent Form (Control), VA Form 10-2109b—31 hours.

c. Survey of Chronic Gastrointestinal Illness in Persian Gulf Veterans, VA Form 10-21092c—3,000 hours.

Estimated Average Burden Per Respondent

a. VA Research Consent Form (Cases), VA Form 10-2109a—15 minutes.

b. VA Research Consent Form (Control), VA Form 10-2109b—10 minutes.

c. Survey of Chronic Gastrointestinal Illness in Persian Gulf Veterans, VA Form 10-21092c—45 minutes.

Frequency of Response: One time.

Estimated Number of Respondents

a. VA Research Consent Form (Cases), VA Form 10-2109a—165.

b. VA Research Consent Form (Control), VA Form 10-2109b—189.

c. Survey of Chronic Gastrointestinal Illness in Persian Gulf Veterans, VA Form 10-21092c—4,000.

By direction of the Secretary.
William F. Russo,
Deputy Director, Office of Regulations Policy and Management, Office of the General Counsel, Department of Veterans Affairs.

[FR Doc. 2012-25873 Filed 10-19-12; 8:45 am]

BILLING CODE 8320-01-P